INTERNATIONAL TRADE COMMISSION

[Investigation No. 332-599]

Distributional Effects of Trade and Trade Policy on U.S. Workers, 2026 Report

AGENCY: United States International Trade Commission

ACTION: Notice of investigation.

SUMMARY: Following receipt on January 25, 2023, of a request from the U.S. Trade Representative (USTR) under section 332(g) of the Tariff Act of 1930, the U.S. International Trade Commission (Commission) instituted Investigation No. 332-599, Distributional Effects of Trade and Trade Policy on U.S. Workers, 2026 Report, for the purpose of providing the first of five reports on the potential distributional effects of goods and services trade and trade policy on U.S. workers and underrepresented and underserved communities. The Trade Representative requested that the report build upon the information gathered by the Commission in its 2022 report on distributional effects. As part of this investigation, the Commission will also host two seminar series on new research related to distributional effects.

DATES: Week of October 16, 2023, and week of July 15, 2024: Virtual seminars hosted by the Commission, with presenters invited by the Commission.

To be determined: Community-based discussions and the symposium (notification by separate Federal Register notice at a later date)

January 20, 2026: Transmittal of Commission report to the Office of USTR.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Co-Project Leader Jennifer Powell (202-205-3450 or jennifer.powell@usitc.gov), Co-Project Leader Saad Ahmad (202-205-3331 or saad.ahmad@usitc.gov), or Deputy Project Leader Tamar Khachaturian (202-205-3299 or tamar.khachaturian@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (202-205-3404 or jennifer.andberg@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION:

Background: The Commission instituted this investigation under section 332(g) of the Tariff Act of 1930 (19 U.S.C. 1332(g)). The U.S. Trade Representative, referring to the Commission's 2022 report (USITC, Distributional Effects of Trade and Trade Policy on U.S. Workers, Investigation No. 332-587, USITC Publication 5374, October 2022, https://www.usitc.gov/sites/default/files/publications/332/pub5374.pdf), requested that the Commission, building on that report, conduct a further investigation on the potential distributional effects of goods and services trade and trade policy on U.S. workers and underrepresented and underserved communities. The Trade Representative requested that the Commission prepare a series of five reports that synthesize and critically review information on the distributional effects of goods and services trade and trade policy on U.S. workers and underrepresented and underserved communities. The Trade Representative asked that the Commission deliver the first of these reports on January 20, 2026, and deliver the remaining reports at 3-year intervals, on January 20, 2029; January 20, 2032; January 20, 2035; and January 20, 2038. The Commission will institute investigations and publish notices of investigation relating to the remaining reports at the appropriate time.

The Trade Representative asked that the Commission, in identifying these effects, gather information through:

1. Community-based open conversations targeted to the interests and concerns of specific underrepresented and underserved demographic and geographic communities. These conversations may take a variety of forms (including, but not limited to, group discussions and informal one-on-one interviews) and may be on- or off-the-record. They should include individual community members, workers, and representatives of organizations that represent and serve specific underrepresented and underserved communities. Other participants could include members or representatives of think tanks; academic and other research institutions; labor unions; State and local governments; non-Federal governmental entities; civil society organizations; community-based stakeholders such as minority-owned businesses; business incubators; Historically Black Colleges and Universities (HBCUs); Hispanic-Serving Institutions (HSIs); Tribal Colleges and Universities (TCUs); Asian American and Native American Pacific Islander-Serving Institutions (AANAPISIs); other Minority-Serving Institutions (MSIs); community colleges; and local and national civil rights organizations;

2. A symposium focused on academic or similar research on the distributional effects of trade and trade policy on underrepresented and underserved communities, including results of existing analysis, evaluation of methodologies, the use of public and restricted data in current analysis, identification of gaps in data and/or in the economic literature, and proposed analysis that could be done with restricted data; and

3. Economic literature on the distributional effects of trade and trade policy on underrepresented and underserved communities including, among other things, the data limitations raised in these analyses.

For the seminars being held the weeks of October 16, 2023, and July 15, 2024, the Commission will invite researchers to present recent work on topics related to distributional effects of trade and trade policy in a seminar setting. These seminars may also include relevant research from related fields outside trade, for example, examining the distributional effects of other policies on U.S. workers and underrepresented and undeserved communities, to the extent such research would be useful in developing ways to analyze the distributional effects of trade. The Commission expects that all presentations during these two weeks will be available for public viewing. Further information regarding these events, as well as instructions on how the public may view them, will be provided no later than one month prior to the events through press releases and information posted on the Commission's website at https://www.usitc.gov/research_and_analysis/ongoing/distributional_effects_332.

The Commission intends to publish a notice in the Federal Register at a later date, of the time, place, and procedures to be followed for the community-based discussions and academic symposium and for the filing of written submissions from interested parties in this first investigation. As requested by the Trade Representative, the Commission will deliver the first report on January 20, 2026. Since the Trade Representative has indicated that her office intends to make this report available to the public in its entirety, the Commission will not include confidential business or national security classified information in its report.

By order of the Commission.
Issued: July 12, 2023.
Lisa Barton,
Secretary to the Commission.

[FR Doc. 2023-15141 Filed 7-17-23; 8:45 am]

BILLING CODE 7020-02-P